DEPARTMENT OF COMMERCE

National Institute of Standards and Technology

Call for Nominations To Serve on the National Artificial Intelligence Advisory Committee and Call for Nominations To Serve on the Subcommittee on Artificial Intelligence and Law Enforcement

AGENCY: National Institute of Standards and Technology, Department of Commerce.

ACTION: Call for nominations to serve on the National Artificial Intelligence Advisory Committee and call for nominations to serve on the Subcommittee on Artificial Intelligence and Law Enforcement.

SUMMARY: The Secretary of Commerce (Secretary), in consultation with the Director of the Office of Science and Technology Policy, the Secretary of Defense, the Secretary of Energy, the Secretary of State, the Attorney General, and the Director of National Intelligence, shall establish the National Artificial Intelligence Advisory Committee (the NAIAC or the Committee) in accordance with the requirements of Section 5104 of the National Artificial Intelligence Initiative Act of 2020, and in accordance with the Federal Advisory Committee Act, as amended. The Committee shall provide advice to the President and the National Artificial Intelligence Initiative Office on matters related to the National Artificial Intelligence Initiative (Initiative). The purposes of the Initiative are: (1) Ensuring continued United States leadership in artificial intelligence research and development; (2) leading the world in the development and use of trustworthy artificial intelligence systems in the public and private sectors; (3) preparing the present and future United States workforce for the integration of artificial intelligence systems across all sectors of the economy and society; and (4) coordinating ongoing artificial intelligence research, development, and demonstration activities among the civilian agencies, the Department of Defense, and the Intelligence Community to ensure that each informs the work of the others.

DATES: Nominations to serve on the inaugural Committee and Subcommittee on Artificial Intelligence and Law Enforcement must be submitted by 5:00 p.m. Eastern Time on October 25, 2021. In addition, nominations for the Committee and Subcommittee on Artificial Intelligence and Law Enforcement will be accepted on an ongoing basis and will be considered as and when vacancies arise. Nominations may be submitted to serve on either or both the NAIAC or Subcommittee on Artificial Intelligence and Law Enforcement.

ADDRESSES: Please submit nominations to Alicia Chambers, Committee Liaison Officer, National Institute of Standards and Technology, 100 Bureau Drive, MS 1000, Gaithersburg, MD 20899 and Melissa Banner, Designated Federal Officer, National Institute of Standards and Technology, 100 Bureau Drive, MS 1000, Gaithersburg, MD 20899. Nominations may also be submitted via email to alicia.chambers@nist.gov and melissa.banner@nist.gov.

FOR FURTHER INFORMATION CONTACT: Elham Tabassi, Chief of Staff, Information Technology Laboratory, National Institute of Standards and Technology, 100 Bureau Drive, MS 8940, Gaithersburg, MD 20899. Her email is elham.tabassi@nist.gov.

SUPPLEMENTARY INFORMATION:

Committee Information: The National Institute of Standards and Technology (NIST or Institute) invites and requests nominations of individuals for appointment to the Committee and to the Subcommittee on Artificial Intelligence and Law Enforcement. Registered Federal lobbyists may not serve on NIST Federal Advisory Committees in an individual capacity.

The Secretary of Commerce shall establish the National Artificial Intelligence Advisory Committee (the NAIAC or the Committee) pursuant to Section 5104 of the National Artificial Intelligence Initiative Act of 2020 (Pub. L. 116-283), hereinafter referred to as the Act, and the Federal Advisory Committee Act, as amended (FACA), 5 U.S.C. App.

Objectives and Duties: The Committee shall advise the President and the Initiative Office on matters related to the Initiative, including recommendations related to:

a. The current state of United States competitiveness and leadership in artificial intelligence, including the scope and scale of United States investments in artificial intelligence research and development in the international context;

b. The progress made in implementing the Initiative, including a review of the degree to which the Initiative has achieved the goals according to the metrics established by the Interagency Committee under Section 5103(d)(2) of the Act;

c. The state of the science around artificial intelligence, including progress toward artificial general intelligence;

d. Issues related to artificial intelligence and the United States workforce, including matters relating to the potential for using artificial intelligence for workforce training, the possible consequences of technological displacement, and supporting workforce training opportunities for occupations that lead to economic self-sufficiency for individuals with barriers to employment and historically underrepresented populations, including minorities, Indians (as defined in 25 U.S.C. 5304), low-income populations, and persons with disabilities;

e. How to leverage the resources of the Initiative to streamline and enhance operations in various areas of government operations, including health care, cybersecurity, infrastructure, and disaster recovery;

f. The need to update the Initiative;

g. The balance of activities and funding across the Initiative;

h. Whether the strategic plan developed or updated by the Interagency Committee established under Section 5103(d)(2) of the Act is helping to maintain United States leadership in artificial intelligence;

i. The management, coordination, and activities of the Initiative;

j. Whether ethical, legal, safety, security, and other appropriate societal issues are adequately addressed by the Initiative;

k. Opportunities for international cooperation with strategic allies on artificial intelligence research activities, standards development, and the compatibility of international regulations;

l. Accountability and legal rights, including matters relating to oversight of artificial intelligence systems using regulatory and nonregulatory approaches, the responsibility for any violations of existing laws by an artificial intelligence system, and ways to balance advancing innovation while protecting individual rights; and

m. How artificial intelligence can enhance opportunities for diverse geographic regions of the United States, including urban, Tribal, and rural communities.

In addition, pursuant to Section 5104(e) of the Act, the Committee's Chairperson shall establish a subcommittee that shall provide advice to the President, through the Committee, on matters related to the development of AI relating to law enforcement, including advice on the following:

A. Bias, including whether the use of facial recognition by government authorities, including law enforcement agencies, is taking into account ethical considerations and addressing whether such use should be subject to additional oversight, controls, and limitations.

B. Security of data, including law enforcement's access to data and the security parameters for that data.

C. Adoptability, including methods to allow the United States Government and industry to take advantage of artificial intelligence systems for security or law enforcement purposes while at the same time ensuring the potential abuse of such technologies is sufficiently mitigated.

D. Legal standards, including those designed to ensure the use of artificial intelligence systems are consistent with the privacy rights, civil rights and civil liberties, and disability rights issues raised by the use of these technologies.

Not later than one (1) year after the date of the enactment of the Act, and not less frequently than once every three (3) years thereafter, the Committee shall submit to the President, the Committee on Science, Space, and Technology, the Committee on Energy and Commerce, the House Permanent Select Committee on Intelligence, the Committee on the Judiciary, and the Committee on Armed Services of the House of Representatives, and the Committee on Commerce, Science, and Transportation, the Senate Select Committee on Intelligence, the Committee on Homeland Security and Governmental Affairs, the Committee on the Judiciary, and the Committee on Armed Services of the Senate, a report on the Committee's findings and recommendations under Section 5104(d) and Section 5104(e) of the Act. The report on the Committee's findings and recommendations will be administratively delivered to the President and Congress through the Secretary of Commerce.

Membership

Members of the Committee shall be appointed by the Secretary of Commerce. The Committee shall consist of not less than 9 members, who represent broad and interdisciplinary expertise and perspectives, including from academic institutions, companies across diverse sectors, nonprofit and civil society entities, including civil rights and disability rights organizations, and Federal laboratories, who represent geographic diversity, and who are qualified to provide advice and information on science and technology research, development, ethics, standards, education, technology transfer, commercial application, security, and economic competitiveness related to artificial intelligence.

In selecting the members of the Committee, the Secretary of Commerce shall seek and give consideration to recommendations from Congress, industry, nonprofit organizations, the scientific community (including the National Academies of Sciences, Engineering, and Medicine, scientific professional societies, and academic institutions), the defense and law enforcement communities, and other appropriate organizations.

The Committee members serve three-year terms and may serve two consecutive terms at the discretion of the Secretary. A member who has served two consecutive terms is ineligible to serve a third term for a period of one year following the expiration of the second term, to include its subcommittees. Vacancies are filled as soon as highly qualified candidates in a needed area of expertise, sector, or perspective are identified and available to serve. Members of the Committee who are not full-time or permanent part-time Federal officers or employees and appointed for their individual expertise and experience will be appointed to serve as Special Government Employee (SGE) members. Members of the Committee appointed on behalf of specific interests will serve as Representatives. Members of the Committee who are full-time or permanent part-time Federal officers or employees will be appointed pursuant to 41 CFR 102.3.130(h) to serve as Regular Government Employee (RGE) members. Members will be individually advised of the capacity in which they will serve by the DFO.

Members shall be selected on the basis of established records of distinguished service and shall be eminent in their fields.

The Secretary of Commerce shall appoint the Chairperson and the Vice Chairperson from among the members of the Committee. The Chairperson and the Vice Chairperson's tenure shall be two years and can be modified at the discretion of the Secretary of Commerce.

Members of the Committee shall not be compensated for their services. Non-Federal members of the Committee, while attending meetings of the Committee or while otherwise serving at the request of the head of the Committee away from their homes or regular place of business, may be allowed travel expenses, including per diem in lieu of subsistence, as authorized by Section 5703 of Title 5, United States Code, for individuals in the Government serving without pay. Nothing in this section shall be construed to prohibit members of the Committee who are officers of employees of the United States from being allowed travel expenses, including per diem in lieu of subsistence, in accordance with existing law.

Members shall not reference or otherwise utilize their membership on the Committee or its subcommittees in connection with public statements made in their personal capacities without a disclaimer that the views expressed are their own and do not represent the views of the Committee or its subcommittees, NIST, the Office of Science and Technology Policy, the Department of Defense, the Department of Energy, the Department of State, the Attorney General, the Office of National Intelligence, the Initiative Office, the President, or the Department of Commerce.

Miscellaneous

Meetings will be conducted at least twice each year.

1. Generally, Committee meetings are open to the public.

2. Meeting may be held in-person in selected locations across the country and/or virtually.

Nomination Information

1. Nominations are sought from all fields, sectors, and perspectives described above.

2. Nominees should represent broad and interdisciplinary expertise and perspectives, including from academic institutions, companies across diverse sectors, nonprofit and civil society entities, including civil rights and disability rights organizations, and Federal laboratories, who represent geographic diversity, and who are qualified to provide advice and information on science and technology research, development, ethics, standards, education, technology transfer, commercial application, security, and economic competitiveness related to artificial intelligence. The field of eminence for which the candidate is qualified should be specified in the nomination letter. A summary of the candidate's qualifications should be included with the nomination, including (where applicable) current or former service on Federal advisory boards and Federal employment. In addition, each nomination letter should state whether the candidate seeks to serve on the Committee, the Subcommittee, or both; and that the candidate acknowledges the responsibilities of serving and will actively participate in good faith in the tasks of the Committee or Subcommittee, as appropriate. Third-party nomination letters should state that the candidate agrees to the nomination.

3. The Department of Commerce seeks a broad-based and diverse Committee and subcommittee membership.

Alicia Chambers,
NIST Executive Secretariat.

[FR Doc. 2021-19287 Filed 9-7-21; 8:45 am]

BILLING CODE 3510-13-P